INTERNATIONAL TRADE COMMISSION

[Inv. No. 337-TA-665]

In the Matter of Certain Semiconductor Integrated Circuits and Products Containing Same; Notice of Commission Determination Not To Review an Initial Determination Granting-in-Part and Denying-in-Part Complainant's Motion for Leave To Amend the Complaint and Notice of Investigation

AGENCY: U.S. International Trade Commission.

ACTION: Notice.

SUMMARY: Notice is hereby given that the U.S. International Trade Commission has determined not to review an initial determination (“ID”) (Order No. 31) of the presiding administrative law judge (“ALJ”) granting-in-part and denying-in-part complainant's motion for leave to amend the complaint and notice of investigation.

FOR FURTHER INFORMATION: Michael Liberman, Esq., Office of the General Counsel, U.S. International Trade Commission, 500 E Street, SW., Washington, DC 20436, telephone 202-205-3152. Copies of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On December 24, 2008, the Commission instituted an investigation under section 337 of the Tariff Act of 1930, 19 U.S.C. 1337, based on a complaint filed by Qimonda AG of Munich, Germany (“Qimonda”), alleging a violation of section 337 in the importation, sale for importation, and sale within the United States after importation of certain semiconductor integrated circuits and products containing same that infringe various claims of U.S. Patent Nos. 5,213,670; 5,646,434; 5,851,399; 6,103,456; 6,495,918; 6,593,240; and 6,714,055. 73 FR 79165 (Dec. 24, 2008). The complainant named numerous entities as respondents.

On April 20, 2009, complainant Qimonda filed a motion for leave to amend its complaint. On May 4, 2009, the ALJ issued Order No. 31 granting-in-part and denying-in-part Qimonda's motion. The ALJ determined that the notice of investigation is amended to remove Seagate Technologies International (Singapore) as a respondent, and that Qimonda's motion is otherwise denied. On May 12, 2009, Qimonda filed a petition for review of the portion of Order No. 31 that denied its motion to amend. The Commission investigative attorney and several respondents opposed the petition on May 19, 2009. Qimonda's petition is improper because it concerns a portion of Order No. 31 that is not an ID. See Commission rule 19 § 210. 42(c), 19 CFR 210.4(c). Qimonda's petition has not been considered by the Commission.

The Commission has determined not to review the ID.

The authority for the Commission's determination is contained in section 337 of the Tariff Act of 1930, as amended (19 U.S.C. 1337), and in section 210.42(h) of the Commission's Rules of Practice and Procedure (19 CFR 210.42(h)).

Issued: May 29, 2009.
By order of the Commission.
Marilyn R. Abbott,
Secretary to the Commission.

[FR Doc. E9-13327 Filed 6-5-09; 8:45 am]

BILLING CODE 7020-02-P